DEPARTMENT OF AGRICULTURE

Animal and Plant Health Inspection Service

7 CFR Part 319

[Docket No. APHIS-2012-0001]

RIN 0579-AD67

Chrysanthemum White Rust Regulatory Status and Restrictions

AGENCY: Animal and Plant Health Inspection Service, USDA.

ACTION: Advance notice of proposed rulemaking; reopening of comment period.

SUMMARY: We are reopening the comment period for our advance notice of proposed rulemaking that solicits public comment on whether and how we should amend our process for responding to domestic chrysanthemum white rust (CWR) outbreaks and the importation of plant material that is a host of CWR. This action will allow interested persons additional time to prepare and submit comments.

DATES: We will consider all comments that we receive on or before November 30, 2012.

ADDRESSES: You may submit comments by either of the following methods:

• Federal eRulemaking Portal: Go to http://www.regulations.gov/#!documentDetail;D=APHIS-2012-0001-0001.

• Postal Mail/Commercial Delivery: Send your comment to Docket No. APHIS-2012-0001, Regulatory Analysis and Development, PPD, APHIS, Station 3A-03.8, 4700 River Road Unit 118, Riverdale, MD 20737-1238.

Supporting documents and any comments we receive on this docket may be viewed at http://www.regulations.gov/#!docketDetail;D=APHIS-2012-0001 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Ms. Lynn Evans-Goldner, National Program Manager, Pest Management, PPQ, APHIS, 4700 River Road Unit 137, Riverdale, MD 20737; (301) 851-2286.

SUPPLEMENTARY INFORMATION:

Background

On August 3, 2012, we published in the Federal Register (77 FR 46339-46340, Docket No. APHIS-2012-0001), an advance notice of proposed rulemaking (ANPR) to solicit public comment on whether and how we should amend our process for responding to domestic chrysanthemum white rust (CWR) outbreaks and the importation of plant material that is a host of CWR. CWR is an economically important disease in both field-grown and greenhouse-grown chrysanthemum plants, as well as cut flower production.

The ANPR specifically asks for comments regarding four options under consideration. These options are: Continuing to manage CWR as a quarantine pest with the objective of continuing to eradicate new infestations; revising the current regulations to designate CWR as a regulated non-quarantine pest; no longer managing CWR as a quarantine pest whose presence requires an eradication-oriented response, but maintaining port of entry restrictions for chrysanthemums destined to those States where CWR is not present and where these States have established an official control program under the Federally Recognized State-Managed Phytosanitary Program; or completely removing CWR as a quarantine pest whose presence requires an eradication-oriented response.

Comments on the ANPR were required to be received on or before October 2, 2012. We are reopening the comment period on Docket No. APHIS-2012-0001 for an additional 30 days. This action will allow interested persons additional time to prepare and submit comments. We will also accept comments received between October 3, 2012 (the day after the close of the original comment period) and the date of this notice.

Authority: 7 U.S.C. 450 and 7 U.S.C. 7701-7772 and 7781-7786; 21 U.S.C. 136 and 136a; 7 CFR 2.22, 2.80, and 371.2(c).

Done in Washington, DC, this 25th day of October 2012.
Peter Fernandez,
Acting Administrator, Animal and Plant Health Inspection Service.

[FR Doc. 2012-26730 Filed 10-30-12; 8:45 am]

BILLING CODE 3410-34-P